SMALL BUSINESS ADMINISTRATION

Region 3—Washington Metropolitan Area District Office Advisory Council; Public Meeting

The Washington Metropolitan Area District Office Advisory Council of the U.S. Small Business Administration (SBA) will be conducting a meeting on Thursday, November 13, 2003, from 9 a.m. until 11:30 a.m. at the Washington Metropolitan Area District Office located at 1110 Vermont Avenue, NW., 9th Floor, Washington, DC 20005. The meeting is open to the public. Seating is limited and is available on a first come, first serve basis. The focus of the meeting includes a review of FY 2003 District Office accomplishments, FY 2004 District Office goals, update on new initiatives, and the operations and goals of the District Advisory Council in the coming year.

Anyone wishing further information concerning the meeting or who wishes to submit oral or written comments should contact, Joseph P. Loddo or Sheila D. Thomas, Designated Federal Officials for the SBA's Washington Metropolitan Area District Advisory Council, by phone at (202) 606-4000, ext. 200 or 276, respectively or via e-mail to: joseph.loddo@sba.gov or sheila.thomas@sba.gov. Requests for oral comments must be in writing to: Sheila D. Thomas 1110 Vermont Ave., NW., 9th Fl, Washington, DC 20005 and received no later than November 7, 2003.

Scott R. Morris,
Deputy Chief of Staff.

[FR Doc. 03-27419 Filed 10-30-03; 8:45 am]

BILLING CODE 8025-01-P